DEPARTMENT OF THE INTERIOR

Minerals Management Service

30 CFR Part 250

Oil and Gas and Sulphur Operations in the Outer Continental Shelf—Update of Revised/Reaffirmed Documents Incorporated by Reference

AGENCY: Minerals Management Service (MMS), Interior.

ACTION: Technical amendment.

SUMMARY: This document makes technical amendments to regulations that were published in a final rule on December 28, 1999 (64 FR 72756), and which listed all documents incorporated by reference in regulations governing oil and gas and sulfur operations in the Outer Continental Shelf (OCS). This amendment incorporates Supplement 2 to the 21st Edition of American Petroleum Institute (API) Specification 6D (SPEC 6D). The rulemaking of December 28, 1999, incorporated API SPEC 6D, 21st Edition, but not the supplement.

EFFECTIVE DATE: May 31, 2000.

The incorporation by reference of publications listed in the regulation is approved by the Director of the Federal Register as of May 31, 2000.

FOR FURTHER INFORMATION CONTACT: Carl W. Anderson at (703) 787-1608.

SUPPLEMENTARY INFORMATION:

Background

Early in 1998, API requested that MMS incorporate by reference Supplements 1 and 2 (dated December 1996 and December 1997, respectively) to API SPEC 6D. (Supplement 2 actually fully incorporates and expands upon Supplement 1.) For metal-to-metal seated valves, the Supplements changed from a “no visible leakage” standard to “allowable internal leakage rates” according to valve size. This raised two concerns for MMS with regard to its regulatory program. First, once an attempt has been made to purge a pipeline of all contents and close its valves, how can an operator be sure that the pipeline is properly isolated and free of combustibles or pressure during repairs? (Cutting into an existing pipeline in preparation to repair it is considered among the most hazardous operations conducted offshore.) Second, how can MMS be sure that out-of-service pipelines isolated by block valves are really shut down?

MMS issued Notice to Lessees and Operators on the Outer Continental Shelf (NTL) No. 98-16N in October 1998 rejecting Supplements 1 and 2 as documents incorporated by reference. MMS needed more time to discuss the issues with API and to consider the ramifications of the “allowable internal leakage” standard for the OCS regulatory program. MMS reasoned:

It may well be that the “no visible leakage” standard contained in the 21st and previous editions of API SPEC 6D is an unreasonably high standard for metal-to-metal seats. Metal-to-metal seats are non-deforming compared to non-metal-to-metal seats; therefore, it may be reasonable to expect that some leakage would occur between facing metal surfaces. Nevertheless, there appears to be no data or agreed-upon formula for predicting an acceptable leakage rate.

The MMS made a concerted attempt with API to collect data on this question and held further discussions with industry. In February 1999, MMS proposed a research project on leakage rates to API and asked them to survey their members on their perceptions of the “allowable leakage rates” and willingness to participate in the research project. Only 25 of 250 potential respondents replied. Their answers indicated that few valve suppliers believe that the “no visible leakage” standard is realistic, other than for special-purpose, non-off-the-shelf (i.e., expensive) valves. Support for new research was very limited.

Industry representatives maintained that there is little formal data on leakage rates. They explained, however, that most correspondence on this subject focuses on leakage rates contained in International Standards Organization Standard 5208, Rate D. These rates are incorporated into Supplements 1 and 2. The API SPEC 6D workgroup generally agrees that these leakage rates are reasonable and in line with their experience.

Further discussions with the API SPEC 6D workgroup revealed that participants almost unanimously agree that all pipeline valves leak after they have been in service for a short time due to operational residues and abrasion. This indicates that initial leakage rates for new valves are irrelevant by the time a pipeline is in need of repair or placed out-of-service. Therefore, measures in addition to “closed valves” are needed to protect workers and to ensure “isolated pipelines” during pipeline repairs.

The MMS's own pipeline workgroup conferred on these issues. They decided that rejecting the new allowable internal leakage rates would be unrealistic in light of what MMS had learned from its discussions with industry. Moreover, the maintenance of an unrealistic “no visible leakage” standard would not address the real regulatory dilemma that regardless of initial internal leakage rates, eventually all pipeline valves will leak internally. The MMS workgroup reasoned that since internal leakage occurs in pipeline valves regardless of initial leakage rates, MMS must address this concern in its inspection and maintenance procedures. Therefore, the MMS workgroup recommended canceling NTL 98-16N and adopting Supplement 2 as a document incorporated by reference. They also recommended two additions to Subpart J that would address the problems posed by leaking pipeline valves. The first would add a requirement for operators to submit a work plan detailing the measures they intend to take and procedures they intend to follow to ensure the safety of their employees during any pipeline repair. The second would add a requirement for placing a blind flange on lateral lines taken out-of-service. The MMS intends to propose both of these requirements in a separate rulemaking.

MMS has reviewed Supplements 1 and 2 to the 21st Edition of API SPEC 6D in light of the above considerations and determined that they will not impose undue cost on the offshore oil and gas industry. Moreover, further discussions with API confirm that Supplement 2 completely replaces Supplement 1. (Thus, parties that order copies of the 21st Edition of API SPEC 6D from API receive only Supplement 2 in addition to the primary document.) Therefore, we are incorporating Supplement 2 according to the authority in 30 CFR 250.198(a)(2).

Upon the effective date of this technical amendment, NTL No. 98-16N is cancelled.

List of Subjects in 30 CFR Part 250

Continental shelf, Environmental impact statements, Environmental protection, Government contracts, Incorporation by reference, Investigations, Mineral royalties, Oil and gas development and production, Oil and gas exploration, Oil and gas reserves, Penalties, Pipelines, Public lands—mineral resources, Public lands—rights-of-way, Reporting and recordkeeping requirements, Sulphur development and production, Sulphur exploration, Surety bonds.

Accordingly, 30 CFR part 250 is amended by making the following technical amendments:

PART 250—OIL AND GAS AND SULPHUR OPERATIONS IN THE OUTER CONTINENTAL SHELF

1. The authority citation for part 250 continues to read as follows:

Authority: 43 U.S.C. 1331 et seq.

2. In § 250.198, in the table in paragraph (e), revise the entry for API SPEC 6D to read as set forth below.

§ 250.198 Documents incorporated by reference.

* * * * *

(e) * * *

Title of documents | Incorporated by reference at
* * * * * * *
API Spec 6D, Specification for Pipeline Valves (Gate, Plug, Ball, and Check Valves), Twenty-first Edition, March 31, 1994, including Supplement 2, December 1, 1997, API Stock No. G03200 | § 250.1002(b)(1).
* * * * * * *

Dated: April 21, 2000.
Joseph R. Levine,
Acting Chief, Engineering and Operations Division.

[FR Doc. 00-10592 Filed 4-28-00; 8:45 am]

BILLING CODE 4310-MR-P